FEDERAL COMMUNICATIONS COMMISSION

Public Information Collections Approved by Office of Management and Budget

September 8, 2008.

SUMMARY: The Federal Communications Commission (FCC) has received Office of Management and Budget (OMB) approval for the following public information collections pursuant to the Paperwork Reduction Act of 1995, Public L. 104-13. An agency may not conduct or sponsor and a person is not required to respond to a collection of information unless it displays a currently valid control number.

FOR FURTHER INFORMATION CONTACT: John Schauble, Deputy Chief, Broadband Division, Wireless Telecommunications Bureau, Federal Communications Commission at (202) 418-0797.

SUPPLEMENTARY INFORMATION: OMB Control No.: 3060-1094.

OMB Approval Date: 9/8/2008.

Expiration Date: 9/30/2011.

Title: Licensing, Operation, and Transition of the 2495-2690 MHz Band—WT Docket Nos. 03-66; 03-67; 02-68; IB Docket No. 02-364; ET Docket No. 00-258; FCC 08-83.

Form No.: N/A.

Number of Respondents: 2,500 respondents; 12,726 responses.

Estimated Time Per Response: 3.334 hours (average burden per response) and adds .50 hours for the new requirement for wireless service providers (see paragraph one of the supporting statement that will be submitted to OMB after this 60-day comment period).

Total Annual Burden: 8,457 hours.

Total Annual Cost: $266,666.

Obligation to Respond: Mandatory; Section 27.1221(f).

Nature and Extent of Confidentiality: The revised information collection requirements provide that information provided pursuant to the new requirement shall not be disclosed to additional parties except to the extent necessary to ensure compliance with FCC rules.

Needs and Uses: The Commission adopted a Fourth Memorandum Opinion and Order (4th MO&O), WT Docket Nos. 03-66; 03-67; 02-68; IB Docket No. 02-364; ET Docket No. 00-258; FCC 08-83, on March 18, 2008, which modifies Wireless Communications Association International, Inc.'s (WCA) proposal regarding the formula used to calculate height benchmarking and clarifies how non-contiguous licensees calculate their height benchmark. Because licensees are now required under 47 CFR 27.1221(f) to provide the geographic coordinates, the height above ground level of the center of radiation for each transmit and receive antenna, and the date transmissions commenced for each of the base stations in its geographic service area (GSA) within 30 days of receipt of a request from a co-channel, neighboring Broadband Radio Service/Educational Broadband Service (BRS/EBS) licensee(s), the Commission is revising this information collection to add the requirement referenced above from the 4th MO&O and to eliminate the requirement for Multichannel Video Programming Distributors (MVPD) Opt-Out (Waiver Requests) that sunset on April 30, 2007. That option is no longer available and is being removed from this information collection. The information will be used to notify third parties and to prevent harmful interference to licensees' BRS/EBS operations.

Federal Communications Commission.
Marlene H. Dortch,
Secretary.

[FR Doc. E8-22091 Filed 9-19-08; 8:45 am]

BILLING CODE 6712-01-P